DEPARTMENT OF AGRICULTURE

Forest Service

Missoula County Resource Advisory Committee

AGENCY: Forest Service, USDA.

ACTION: Notice of meeting.

SUMMARY: The Lolo National Forest's Missoula County Resource Advisory Committee (RAC) will meet on Thursday, April 14, 2011 from 9 a.m. to 12:30 p.m., in Missoula, Montana. The purpose of the meeting is to distribute submitted proposals to RAC members, allow the opportunity for project proponents to present their proposals, and receive public comment on the meeting subjects and proceedings.

DATES: Thursday, April 14, 2011 from 9 a.m. to 12:30 p.m.

ADDRESSES: Missoula County Courthouse, Room 201; 200 W. Broadway, Missoula, MT 59802.

FOR FURTHER INFORMATION CONTACT: Boyd Hartwig; Address: Lolo National Forest, Building 24A Fort Missoula, Missoula, Montana 59804; Phone: 406-329-1024 e-mail: bchartwig@fs.fed.us.

SUPPLEMENTARY INFORMATION: Agenda items to be covered include: (1) Distribution and brief discussion of project proposals; (2) provide opportunity for proponents to give up to a 10 minute presentation for each project; (3) give RAC members the opportunity to ask questions of the proponents; (4) receive public comment. The meeting is open to the public. Opportunity for public input will be provided and individuals will have the opportunity to address the Committee at that time.

Dated: January 20, 2011.
Paul Matter,
Missoula District Ranger.

[FR Doc. 2011-1739 Filed 1-26-11; 8:45 am]

BILLING CODE P